DEPARTMENT OF ENERGY

Office of Energy Efficiency and Renewable Energy

[Case No. RF-018]

Energy Conservation Program for Consumer Products: Publication of the Extension of Interim Waiver Granted to Samsung Electronics America, Inc. From the Department of Energy Residential Refrigerator and Refrigerator-Freezer Test Procedure

AGENCY: Office of Energy Efficiency and Renewable Energy, Department of Energy.

ACTION: Notice of extension of interim waiver.

SUMMARY: On March 25, 2011, the Department of Energy (DOE) published in the Federal Register a petition for waiver and notice granting an application for interim waiver to Samsung Electronics America, Inc. (Samsung) from energy efficiency test procedure requirements that are applicable to residential refrigerators and refrigerator-freezers. In today's action, DOE is extending the interim waiver for 180 days.

FOR FURTHER INFORMATION CONTACT:

Dr. Michael G. Raymond, U.S. Department of Energy, Building Technologies Program, Mailstop EE-2J, 1000 Independence Avenue, SW., Washington, DC 20585-0121. Telephone: (202) 586-9611. E-mail: Michael.Raymond@ee.doe.gov.

Ms. Elizabeth Kohl, U.S. Department of Energy, Office of the General Counsel, Mail Stop GC-71, 1000 Independence Avenue, SW., Washington, DC 20585-0103, (202) 586-7796; E-mail: Elizabeth.Kohl@hq.doe.gov.

SUPPLEMENTARY INFORMATION: On March 18, 2011, DOE granted to Samsung an interim waiver from the energy efficiency test procedure requirements in 10 CFR part 430 that are applicable to Samsung's electric refrigerators and refrigerator-freezers that incorporate multiple defrost cycles, and requested comments on Samsung's petition. 76 FR 16760 (March 25, 2011). Pursuant to 10 CFR 430.27(h), an interim waiver will terminate 180 days after issuance or upon the determination on the petition for waiver, whichever occurs first. An interim waiver may be extended by DOE for 180 days. Notice of such extension and/or any modification of the terms or duration of the interim waiver shall be published in the Federal Register and shall be based on relevant information contained in the record and any comments received subsequent to issuance of the interim waiver.

On August 17, 2011, Samsung requested an extension of its interim waiver. DOE recently published a notice reopening the comment period on its interim final rule for the refrigerator test procedure. 76 FR 57612 (Sept. 15, 2011). DOE intends to consider the comments received in response to this notice before publishing a decision and order concerning Samsung's petition for waiver from the energy efficiency test procedure requirements for residential refrigerators and refrigerator-freezers in 10 CFR part 430, which are applicable to Samsung's electric refrigerators and refrigerator-freezers that incorporate multiple defrost cycles. Therefore, DOE has determined that it is appropriate to grant an extension of the interim waiver to Samsung for an additional 180 days, or until March 12, 2012, or until the determination on the petition for waiver, whichever occurs first.

Issued in Washington, DC, on September 20, 2011.
Kathleen Hogan,
Deputy Assistant Secretary for Energy Efficiency, Office of Technology Development, Energy Efficiency and Renewable Energy.

[FR Doc. 2011-24611 Filed 9-23-11; 8:45 am]

BILLING CODE 6450-01-P